DEPARTMENT OF COMMERCE

International Trade Administration

[A-475-818]

Notice of Amended Final Results of Antidumping Duty Administrative Review: Certain Pasta from Italy

AGENCY: Import Administration, International Trade Administration, Department of Commerce.

ACTION: Notice of Amendment to Final Results of Antidumping Duty Administrative Review.

SUMMARY: We are amending the weighted-average margin for Pastificio Guido Ferrara S.r.l. (“Ferrara”) calculated for the July 1, 1999, through June 30, 2000, administrative review of this order. The revised weighted-average margin for Ferrara is 1.25 percent ad valorem.

EFFECTIVE DATE: February 4, 2002.

FOR FURTHER INFORMATION CONTACT: Mark Young or Frank Thomson, AD/CVD Enforcement, Office VI, Group II, Import Administration, International Trade Administration, U.S. Department of Commerce, 14th Street and Constitution Avenue, N.W., Washington, D.C. 20230; telephone (202) 482-6397, or (202) 482-4793, respectively.

SUPPLEMENTARY INFORMATION:

The Applicable Statute and Regulations

Unless otherwise indicated, all citations to the Tariff Act of 1930, as amended (“the Act”), are references to the provisions effective January 1, 1995, the effective date of the amendments made to the Act by the Uruguay Round Agreements Act. In addition, unless otherwise indicated, all citations to the Department of Commerce's (“Department's”) regulations are to 19 CFR Part 351 (2000).

Amendment to Final Results

On January 3, 2002, the Department published the final results of administrative review of the antidumping duty order on certain pasta from Italy. See Notice of Final Results of Antidumping Duty Administrative Review, Partial Rescission of Antidumping Duty Administrative Review and Revocation of Antidumping Duty Order in Part: Certain Pasta From Italy, 67 FR 300 (January 3, 2002) (“Final Results”). The review covers nine manufacturers/exporters. The period of review (“POR”) is July 1, 1999, through June 30, 2000.

On January 4, 2002, we received a timely clerical error submission from Ferrara. In its submission, Ferrara stated that the Department incorrectly applied a billing adjustment ratio to all U.S. sales. Ferrara maintained that the Department should have applied the billing adjustment ratio only to U.S. sales of the subject merchandise that contained billing adjustments.

We agree with Ferrara. The Department did err in applying the billing adjustment ratio to all U.S. sales of subject merchandise. However, because the U.S. sales that contained billing adjustments were not used in the calculation of the margin, the Department will set the billing adjustment ratio equal to zero. This issue is discussed more fully in the January 28, 2002 Calculation Memorandum to the File from the Team through James Terpstra (“Calculation Memorandum”).

In light of these findings, we are amending the weighted-average margin for Ferrara from 2.03 percent to 1.25 percent ad valorem.

Amended Final Results

We are amending the final results of the administrative review on certain pasta from Italy covering the period July 1, 1999, through June 30, 2000, pursuant to section 516A(e) of the Act. As a result of this redetermination, the recalculated final weighted-average margin for Ferrara is as follows:

Manufacturer/producer | Margin percentage
Ferrara | 1.25

The cash deposit rate for Ferrara of 1.25 percent ad valorem is effective on all shipments of the subject merchandise entered, or withdrawn from warehouse, for consumption on or after the date of publication of this notice, and will remain in effect until publication of the final results of the next administrative review.

Accordingly, the Department will determine, and the Customs Service will assess, antidumping duties on all entries of subject merchandise from Ferrara during the period July 1, 1999 through June 30, 2000, in accordance with this amended final results.

This amended final results and notice are in accordance with sections 751(a)(1) of the Act (19 U.S.C. 1675(a)(1)) and 19 CFR 351.221.

Dated: January 28, 2002.
Joseph A. Spetrini,
Acting Assistant Secretary for Import Administration.

[FR Doc. 02-2615 Filed 2-1-02; 8:45 am]

BILLING CODE 3510-DS-S